DEPARTMENT OF HEALTH AND HUMAN SERVICES

Substance Abuse and Mental Health Services Administration

Center for Substance Abuse Treatment: Notice of Meeting

Pursuant to Public Law 92-463, notice is hereby given that the Substance Abuse and Mental Health Services Administration's (SAMHSA's) Center for Substance Abuse Treatment (CSAT) National Advisory Council will meet on August 26, 2015, from 9 a.m.-5 p.m. (EDT) and will include a session that is closed to the public.

The open session of the meeting will be held 9 a.m.-3:30 p.m. and will include consideration of minutes from the SAMHSA CSAT NAC meeting of April 15, 2015, the CSAT Director's report, budget update, a presentation on the Science of Recovery, an overview of Recovery Month, and a presentation related to CSAT's role in responding to public health crisis events in communities.

The closed session will be held 3:30 p.m.-5 p.m. and will include discussion and evaluation of grant applications reviewed by Initial Review Groups, and involve an examination of confidential financial and business information as well as personal information concerning the applicants. Therefore, this portion of the meeting will be closed to the public, as determined by the SAMHSA Administrator, in accordance with Title 5 U.S.C. 552b(c)(4) and (6) and (c)(9)(B) and 5 U.S.C. App. 2, Section 10(d).

The meeting will be held at the SAMHSA building, 1 Choke Cherry Road, Sugarloaf Conference Room, Rockville, MD 20850. Attendance by the public will be limited to space available and will be limited to the open sessions of the meeting. Interested persons may present data, information, or views, orally or in writing, on issues pending before the Council. Written submissions should be forwarded to the contact person on or before August 16, 2015. Oral presentations from the public will be scheduled at the conclusion of the meeting. Individuals interested in making oral presentations are encouraged to notify the contact on or before August 16, 2015. Five minutes will be allotted for each presentation.

The open meeting session may be accessed via telephone. To attend on site, obtain the call-in number and access code, submit written or brief oral comments, or request special accommodations for persons with disabilities, please register on-line at http://nac.samhsa.gov/Registration/meetingsRegistration.aspx, or communicate with LCDR Holly Berilla, SAMHSA/CSAT NAC Designated Federal Officer (see contact information below).

Substantive meeting information and a roster of Council members may be obtained either by accessing the SAMHSA Council Web site at: http://www.samhsa.gov/about-us/advisory-councils/csat-national-advisory-council or by contacting LCDR Berilla.

Substantive program information may be obtained after the meeting by accessing the SAMHSA Council Web site, http://nac.samhsa.gov/, or by contacting LCDR Berilla.

Council Name: SAMHSA's Center for Substance Abuse Treatment, National Advisory Council.

Date/Time/Type: August 26, 2015, 9 a.m.-3:30 p.m. EDT, OPEN; August 26, 2015, 3:30 p.m.-5 p.m. EDT, CLOSED.

Place: SAMHSA Building, 1 Choke Cherry Road, Sugarloaf Conference Room, Rockville, Maryland 20850.

Contact: LCDR Holly Berilla, Designated Federal Officer, CSAT National Advisory Council, 1 Choke Cherry Road, Rockville, Maryland 20857 (mail), Telephone: (240) 276-1252, Fax: (240) 276-2252, Email: holly.berilla@samhsa.hhs.gov.

Janine Cook,
Chemist, SAMHSA.

[FR Doc. 2015-19937 Filed 8-12-15; 8:45 am]

BILLING CODE 4162-20-P